FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transactions Granted Early Termination, 07/09/2001-07/18/2001
Transaction | Acquiring person | Acquired person | Acquired entities
Transactions Granted Early Termination—07/09/2001
20011959 | Electronic Data Systems Corporation | Structural Dynamics Research Corporation | Structural Dynamics Research Corporation.
20011965 | American Italian Pasta Company | Whitehall Associates, L.P | BFC Investments, L.P., BF Foods International Corporation.
|  |  | Borden Foods Corporation.
20011978 | Mme Ginette Dalloz | Engineering Henri Bacou S.A | Engineering Henri Bacou S.A.
20012057 | Cendant Corporation | Galileo International, Inc | Galileo International, Inc.
Transactions Early Termination—07/10/2001
20012000 | Pride International, Inc | Marine Drilling Companies, Inc | Marine Drilling Companies, Inc.
20012050 | Limestone Electron Trust | Energy Investors Fund, L.P | Cambria CoGen Company.
20012070 | Houchens Industries, Inc. Employee Stock Ownership Plan and | Mr. Brad Kelley | Commonwealth Brands, Inc.
20012072 | Ultraframe Plc | Joseph Eposito | C&J Realty Co.
|  |  | Fisher Skylights, Inc.
|  |  | Four Seasons Holbrook, Inc.
|  |  | Four Seasons Marketing Corp.
|  |  | Four Seasons Solar Products Corp.
20012073 | Ultraframe Plc | Christopher Esposito | C&J Realty Co.
|  |  | Fisher Skylights, Inc.
|  |  | Four Seasons Holbrook, Inc.
|  |  | Four Seasons Marketing Corp.
|  |  | Four Seasons Solar Products Corp.
20012087 | WideOpenWest Holdings, LLC | SBC Communications Inc | Ameritech New Media, Inc.
20012090 | Mellon Financial Corporation | SAW Trust | Pilgrim Escrow Company, LLC.
|  |  | Standish, Ayer & Wood Inc.
20012124 | Radio One, Inc | U.S. Broadcasting Limited Partnership | U.S. Broadcasting Limited Partnership.
Transactions Granted Early Termination—07/11/2001
20011970 | AOL Time Warner, Inc | Future Network plc | Future Network plc.
20012084 | Perot Systems Corporation | Advanced Receivables Strategy, Inc | Advanced Receivables Strategy, Inc.
20012094 | Tangua Charitable Trust | Heartland Steel, Inc., Debtor-in-Possession | Heartland Steel, Inc.
20012117 | Tweeter Home Entertainment Group, Inc | Sound Advice, Inc | Sound Advice, Inc.
20012120 | Berkshire Hathaway Inc | FINOVA Group Inc. (The) | FINOVA Group Inc. (The).
Transactions Granted Early Termination—07/12/2001
20012015 | Maytag Corporation | Amana Appliance Company, L.P | Amana Appliance Company, L.P.
20012026 | First Data Corporation | NYCE Corporation | NYCE Corporation.
20012083 | Wicks Communications & Media Partners, L.P | Torstar Corporation | Cambridge Physics Outlet, Inc.
|  |  | Delta Education, Inc.
20012112 | BCE Inc | Wildblue Communications, Inc | Wildblue Communications, Inc .
20012129 | Misys plc | Sidney A. Goldblatt, MD | Sunquest Information Systems, Inc.
Transactions Granted Early Termination—07/13/2001
20012014 | Pulte Homes, Inc | Del Webb Corporation | Del Webb Corporation.
20012041 | Automatic Data Processing, Inc | Avert, Inc | Avert, Inc.
20012066 | Marubeni Corporation | Marubeni-Itochu Steel, Inc | Marubeni-Itochu Steel, Inc.
20012067 | ITOCHU Corporation | Marubeni-Itochu Steel, Inc | Marubeni-Itochu Steel, Inc.
20012075 | Vishay Intertechnology, Inc | Siemens Aktiengesellschaft | Infineon Technologies AG.
20012079 | Johnson & Johnson | Inverness Medical Technology, Inc | Inverness Medical Technology, Inc.
20012085 | Medtronic, Inc | MiniMed Inc | MiniMed Inc.
20012086 | Medtronic, Inc | Medical Research Group, Inc | Medical Research Group, Inc.
20012092 | AT&T Corp | Sprint Corporation | Sprint Corporation.
20012093 | Spring Corporation | AT&T Corp | AT&T Corp.
20012107 | TD Capital Canadian Private Equity Partners (QLP) L.P | Harrowston Inc | Harrowston Inc.
20012111 | AOL Time Warner Inc | AOL Time Warner Inc | TWI Cable Inc.
20012115 | Cascades Inc | Plainwell Shasta Holdings Inc | Plainwell Inc.
Transactions Granted Early Termination—07/16/2001
20012077 | EQT Northern Europe AG | AB Electrolux | White Consolidated Industreis, Inc.
20012103 | e-MedSoft.com | Thor Capital Holdings, LLC | Chartwell Diversified Services, Inc.
20012122 | Lawrence L. Garlcik | Peregrine Systems, Inc | Peregrine Systems, Inc.
20012131 | Kelso Investment Associates VI, L.P | CPI Development Corporation | Carter-Wallance, Inc.
20012133 | CSL Limited, an Australian Capital Territory Corporation | Nabi, a Delaware Corporation | Nabi, a Delaware Corporation.
20012137 | Protective Life Corporation | Irish Life Permanent plc | First Variable Life Insurance Company.
|  |  | Inter-State Assurance Company.
Transactions Granted Early Termination—07/17/2001
20012132 | AK Steel Holding Corporation | Acme Metals Incorporated | Alpha Tube Corporation.
Transactions Granted Early Termination—07/18/2001
20012028 | UMC Health System | Children's Hospital of Pittsburgh | Children's Community Care.
20012042 | Peregrine Systems, Inc | Remedy Corporation | Remedy Corporation.

FOR FURTHER INFORMATION CONTACT: Sandra M. Peay or Parcellena P. Fielding, Contact Representatives, Federal Trade Commission, Premerger Notification Office, Bureau of Competition, Room 303, Washington, DC 20580, (202) 326-3100.

By direction of the Commission.
Benjamin I. Berman,
Acting Secretary.

[FR Doc. 01-19725 Filed 8-6-01; 8:45 am]

BILLING CODE 6750-01-M